DEPARTMENT OF COMMERCE

Submission for OMB Review; Comment Request

The Department of Commerce will submit to the Office of Management and Budget (OMB) for clearance the following proposal for collection of information under the provisions of the Paperwork Reduction Act (44 U.S.C. chapter 35).

Agency: Bureau of Industry and Security.

Title: Special Priorities Assistance.

OMB Control Number: 0694-0057.

Form Number(s): BIS-999.

Type of Request: Regular submission (Extension of a currently approved information collection).

Burden Hours: 600.

Number of Respondents: 1,200.

Average Hours per Response: 30 minutes.

Needs and Uses: The information collected from defense contractors and suppliers is required for the enforcement and administration of special priorities assistance under the Defense Production Act, the Selective Service Act and the Defense Priorities and Allocation System (DPAS) regulation. It is used by Government personnel to provide assistance to these companies when placing rated orders, to obtain timely delivery of products, materials or services from suppliers, or for any other reason under the DPAS, in support of approved national programs.

Affected Public: Business or other for-profit organizations.

Frequency: On occasion.

Respondent's Obligation: Required to obtain benefits.

OMB Desk Officer: Jasmeet Seehra, Fax number (202) 395-7285.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Jasmeet Seehra, OMB Desk Officer, at jseehra@omb.eop.gov, or fax to (202) 395-7285.

Dated: July 7, 2010.
Gwellnar Banks,
Management Analyst, Office of the Chief Information Officer.

[FR Doc. 2010-16948 Filed 7-12-10; 8:45 am]

BILLING CODE 3510-33-P